RAILROAD RETIREMENT BOARD

Agency Forms Submitted for OMB Review

Summary: In accordance with the Paperwork Reduction Act of 1995 (44 U.S.C. chapter 35), the Railroad Retirement Board (RRB) has submitted the following proposal(s) for the collection of information to the Office of Management and Budget for review and approval.

Summary of Proposal(s):

(1) Collection title: Certification Regarding Rights to Unemployment Benefits.

(2) Form(s) submitted: UI-45.

(3) OMB Number: 3220-0079.

(4) Expiration date of current OMB clearance: 08/31/04.

(5) Type of request: Revision of a currently approved collection.

(6) Respondents: Individuals or households.

(7) Estimated annual number of respondents: 1,950.

(8) Total annual responses: 2,900.

(9) Total annual reporting hours: 487.

(10) Collection description: In administering the disqualification for the voluntary leaving of work provision of section 4 of the Railroad Unemployment Insurance Act, the Railroad Retirement Board investigates an unemployment claim that indicates that the claimant left voluntarily. The certification obtains information needed to determine if the leaving was for good cause.

Additional Information or Comments: Copies of the forms and supporting documents can be obtained from Charles Mierzwa, the agency clearance officer (312-751-3363) or Charles.Mierzwa@rrb.gov.

Comments regarding the information collection should be addressed to Ronald J. Hodapp, Railroad Retirement Board, 844 North Rush Street, Chicago, Illinois, 60611-2092 or Ronald.Hodapp@rrb.gov and to the OMB Desk Officer for the RRB, at the Office of Management and Budget, Room 10230, New Executive Office Building, Washington, DC 20503.

Charles Mierzwa,
Clearance Officer.

[FR Doc. 04-15672 Filed 7-9-04; 8:45 am]

BILLING CODE 7905-01-M